ENVIRONMENTAL PROTECTION AGENCY

[ER-FRL-6619-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 14, 2000 (65 FR 20157).

Draft EISs

ERP No. D-AFS-L65379-ID Rating EC2, Little Weiser Landscape Vegetation Management Project, Implementation, Council Ranger District,Payette National Forest, Adams County, ID.

Summary: EPA expressed concerns about the range of alternatives and requested further information on environmental consequences related to water and air quality.

ERP No. D-FHW-G40164-TX Rating EC2, President George Bush Turnpike (PGBT) Segment IV,Improvement from Interstate Highway 35E to Interstate Highway 635, Funding and COE Section 404 Permit, Dallas County, TX.

Summary: EPA expressed environmental concerns and requested additional information in the Final EIS regarding floodplain and wetland mitigation, borrow pit construction and buffering.

ERP No. D-NPS-K61153-CA Rating EC2, Alcatraz Island Historic Preservation and Safety Construction Program, Protection and Implementation, San Francisco County, CA.

Summary: EPA expressed concerns regarding impacts due to lead based paint, asbestos, and polychlorinated biphenyls and recommended additional information regarding releases of these materials and mitigation measures. EPA also requested additional information and mitigation of impacts to water quality and habitat from dock repairs and mitigation measures to reduce PM10 emissions.

Final EISs

ERP No. F-FTA-C54008-NY East Side Access Project, Improve Access to Manhattan's East Side for Commuters in the Long Island Transportation Corridor (LITC), MTA Long Island Rail Road (LIRR), Funding, Nassau, Suffolk,New York, Queens and Bronx Counties, NY.

Summary: All of EPA's concerns from the draft have been addressed in the final EIS.

ERP No. F-JUS-G81009-TX Immigration and Naturalization Service (INS) Detention Facility Construction in the Houston Area, TX.

Summary: EPA has no objections to the action as proposed.

ERP No. F-USN-K11085-HI Fort Kamehameha Outfall Replacement for Wastewater Treatment Plant, Navy Public Works Center, Pearl Harbor, HI.

Summary: EPA remains concerned due to project impacts related to turbidity, coral heath and ocean disposal of dredged material. EPA requested that the Navy address these issues in the Record of Decision.

Dated: June 12, 2001.
Joseph C. Montgomery,
Director, NEPA Compliance Division, Office of Federal Activities.

[FR Doc. 01-15168 Filed 6-14-01; 8:45 am]

BILLING CODE 6560-50-U